DEPARTMENT OF THE TREASURY

Office of Foreign Assets Control

[Case IDs VENEZUELA-EO13850-15916, VENEZUELA-EO13850-15920]

Notice of OFAC Sanctions Actions

AGENCY: Office of Foreign Assets Control, Treasury.

ACTION: Notice.

SUMMARY: The Department of the Treasury's Office of Foreign Assets Control (OFAC) is: (1) Providing notice of the sectoral determination by the Secretary of the Treasury pursuant to Executive Order 13850 (“Blocking Property of Additional Persons Contributing to the Situation in Venezuela”), as amended; and (2) publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

Sectoral Determination by the Secretary of the Treasury Pursuant to E.O. 13850

On May 10, 2019, the Secretary of the Treasury made the following determination:

Section 1(a) of E.O. 13850 of November 1, 2018 (“Blocking Property of Additional Persons Contributing to the Situation in Venezuela”) (E.O. 13850), as amended by Executive Order 13857 of January 25, 2019 (“Taking Additional Steps To Address the National Emergency With Respect to Venezuela”) (E.O. 13857), imposes economic sanctions on any person determined by the Secretary of the Treasury, in consultation with the Secretary of State, to operate in such sectors of the Venezuelan economy as may be determined, pursuant to section 1(a)(i) of E.O. 13850, as amended, by the Secretary of the Treasury, in consultation with the Secretary of State.

To further address the extraordinary threat to the national security and foreign policy of the United States described in E.O. 13850, as amended, and in consultation with the Secretary of State, I hereby determine that section 1(a)(i) shall apply to the defense and security sector of the Venezuelan economy. Any person I or my designee subsequently determine, in consultation with the Secretary of State, operates in this sector shall be subject to sanctions pursuant to section 1(a)(i).

Blocking of Property and Interests in Property Pursuant to E.O. 13850

On May 10, 2019, OFAC determined that the property and interests in property subject to U.S. jurisdiction of the following persons and the following vessels subject to U.S. jurisdiction are blocked under the relevant sanctions authorities listed below.

Entities

1. MONSOON NAVIGATION CORPORATION, Trust Company Complex, Ajeltake Road, Ajeltake Island, Majuro MH96960, Marshall Islands; Identification Number IMO 5403673 [VENEZUELA-EO13850].

Designated pursuant to section 1(a)(i) of Executive Order 13850 (E.O. 13850) of November 1, 2018, “Blocking Property of Additional Persons Contributing to the Situation in Venezuela,” as amended by Executive Order 13857 (E.O. 13857), “Taking Additional Steps To Address the National Emergency with Respect to Venezuela,” of January 25, 2019, for operating in the oil sector of the Venezuelan economy.

2. SERENITY MARITIME LIMITED (a.k.a. SERENITY MARITIME LTD.; a.k.a. SERENITY MARITIME LTD-LIB), Broad Street 80, Monrovia 1000, Liberia [VENEZUELA-EO13850].

Designated pursuant to section 1(a)(i) of E.O. 13850, as amended by E.O. 13857, for operating in the oil sector of the Venezuelan economy.

Vessels

1. OCEAN ELEGANCE Crude Oil Tanker Panama flag; Vessel Registration Identification IMO 9038749 (vessel) [VENEZUELA-EO13850] (Linked To: MONSOON NAVIGATION CORPORATION).

Identified pursuant to E.O. 13850, as amended by E.O. 13857, as property in which MONSOON NAVIGATION CORPORATION, a person whose property and interested in property are blocked pursuant to E.O. 13850, as amended by E.O. 13857, has an interest.

2. LEON DIAS Chemical/Oil Tanker Panama flag; Vessel Registration Identification IMO 9396385 (vessel) [VENEZUELA-EO13850] (Linked To: SERENITY MARITIME LIMITED).

Identified pursuant to E.O. 13850, as amended by E.O. 13857, as property in which SERENITY MARITIME LIMITED, a person whose property and interested in property are blocked pursuant to E.O. 13850, as amended by E.O. 13857, has an interest.

Dated: May 15, 2019.
Andrea Gacki,
Director, Office of Foreign Assets Control.

[FR Doc. 2019-10485 Filed 5-20-19; 8:45 am]

BILLING CODE 4810-AL-P